DEPARTMENT OF COMMERCE

National Oceanic and Atmospheric Administration

[I.D. 032105A]

Antarctic Marine Living Resources Convention Act of 1984; Conservation and Management Measures

AGENCY: National Marine Fisheries Service (NMFS), National Oceanic and Atmospheric Administration (NOAA), Commerce.

ACTION: Notice.

SUMMARY: NMFS issues this notice to notify the public that the United States has accepted conservation and management measures pertaining to fishing in Antarctic waters managed by the Commission for the Conservation of Antarctic Marine Living Resources (Commission or CCAMLR). The Commission adopted these measures at its twenty-third meeting in Hobart, Tasmania, October 25 to November 5, 2004. The measures have been agreed upon by the Member countries of CCAMLR, including the United States,in accordance with Article IX of the Convention for the Conservation of Antarctic Marine Living Resources (the Convention). The accepted conservation and management measures: restrict overall catches and bycatch of certain species of fish, krill and crab; limit participation in several exploratory fisheries; restrict fishing in certain areas and to certain gear types; set fishing seasons; require the use of a centralized Vessel Monitoring System (C-VMS); and urge the Members of CCAMLR as a matter of priority to adopt and use the electronic Dissostichus catch document. The Commission also adopted a number of non-binding resolutions urging action by Commission Members and Contracting Parties.

ADDRESSES: Copies of the CCAMLR conservation and management measures may be obtained from the Assistant Administrator for Fisheries, NOAA, National Marine Fisheries Service, 1315 East-West Highway, Silver Spring, MD 20910.

FOR FURTHER INFORMATION CONTACT: Robin Tuttle, 301-713-2282.

SUPPLEMENTARY INFORMATION:

Background

Individuals interested in CCAMLR and the Convention Area should see the U.S. Department of State's January 26,2005 Federal Register notice (70 FR 3772) and 50 CFR part 300, subpart G - Antarctic Marine Living Resources.

The conservation and management measures and resolutions adopted at the twenty-third meeting of CCAMLR: restrict overall catches and bycatch of certain species of fish, krill and crab; limit participation in several exploratory fisheries; restrict fishing in certain areas and to certain gear types; set fishing seasons; require the use of a C-VMS; and urge the Members of CCAMLR as a matter of priority to adopt and use the electronic Dissostichus catch document. The Commission also adopted a number of non-binding resolutions urging action by Commission Members and Contracting Parties.

The full text of the measures and resolutions were included in a notice published in the Federal Register on January 26, 2005 (70 FR 3772) by the Department of State. Public comments were invited on the notice, but no public comments were received. Through this action, NMFS notifies the public that the United States has accepted the measures adopted at CCAMLR's twenty-third meeting, and that pursuant to the Convention and 16 U.S.C. 2434 et seq., these measures are in effect. NMFS provides the following summary of the conservation and management measures as a courtesy.

Compliance

The Commission adopted a conservation measure requiring additional details on every vessel a member country licenses to fish in the Convention Area, including: the name of the fishing vessel (any previous names, if known); registration number; vessel's International Maritime Organization (IMO) number, if issued; external markings and port registry; the nature of the authorization to fish granted by the Flag State, specifying time periods authorized for fishing; areas of fishing; species targeted; gear used; previous flag, if any; international radio call sign; the name and address of the vessel's owner(s) and any beneficial owner(s), if known; name and address of license owner, if different from vessel owner; type of vessel; where and when built; length; three color photographs of the vessel; and where applicable, details of the implementation of the tamper-proof requirements on the satellite-linked vessel monitoring device.

The Commission requested, to the extent practicable, the following additional information for vessels notified for fishing in exploratory fisheries: name and address of operator, if different from vessel owner; name and nationality of master and, where relevant, of fishing master; type of fishing method or method; beam in meters; gross registered tonnage; vessel communication types and numbers; normal crew complement; power of main engine or engines in kilowatts; carrying capacity in tons; number of fish holds and their capacity in cubic meters; and any other information in respect of each licensed vessel considered appropriate (e.g., ice classification) for the purposes of the implementation of the conservation measure.

The requirements for the information specified in the two vessel information measures will not enter into force until August 1, 2005. A list of licensed vessels will be placed on the CCAMLR website at www.ccamlr.org. NMFS proposes to require all of this information through a future amendment to the reporting requirements on the Antarctic Marine Living Resources harvesting permit application.

Based upon the results of a trial-run of a C-VMS conducted by the CCAMLR Secretariat during the 2003/2004 fishing season, the Commission revised the requirements for its vessel monitoring system (VMS) and adopted a conservation measure to implement C-VMS. This conservation measure requires a vessel fishing in CCAMLR managed waters to use a VMS that automatically transmits the vessel's position at least every four hours to a land-based fisheries monitoring center of its Flag State. Each Contracting Party to the Convention must forward the VMS reports and messages received to the CCAMLR Secretariat as soon as possible, but not later than four hours after receipt for exploratory longline fisheries or following departure from the Convention Area for all other fisheries. The conservation measure requires the CCAMLR Secretariat to place a list of vessels submitting VMS reports on a password-protected section of the CCAMLR website. The list will be divided into subareas and divisions, without indicating the exact position of vessels. The conservation measure also requires the CCAMLR Secretariat to transmit VMS data and reports using secure Internet protocols Secure Socket Layer (SSL), Data Encryption Standard (DES) or verified certificates obtained from the Secretariat. These protocols are similar to those in use by the North Atlantic Fisheries Organization (NAFO). The United States informed CCAMLR that although the new conservation measure only requires C-VMS reporting in the CCAMLR Convention Area, the United States will continue to require its flagged vessels to have on board a VMS unit which transmits the vessel's position from port to port every four hours. The United States will also require, as a condition of import, that vessels of other flagging States seeking to import toothfish into the United States have on board a VMS unit which transmits the vessel's position from port to port every four hours.

The Commission adopted amendments to its conservation measures delineating a process for the listing of vessels suspected of illegal, unregulated or unreported (IUU) fishing or trading (the IUU Vessel List). The Commission will require additional detail on any vessel proposed by a Member for inclusion on the CCAMLR IUU Vessel List including previous names, flags, owners, and operators and a summary of activities that justify inclusion of the vessel on the list. All CCAMLR members are urged to prohibit trade with the vessels on the CCAMLR IUU Vessel List. NMFS may implement a prohibition on the importation of toothfish harvested by vessels identified on the CCAMLR IUU Vessel List in a future rulemaking.

Vessel Safety

The Commission adopted a resolution urging Members to promote the safety of all those on board vessels fishing in the Convention Area by assuring that fishing crews and scientific observers receive survival training and are provided with appropriate and well maintained equipment and clothing.

Exploratory Fisheries

The Commission revised its conservation measure on exploratory fisheries to require specific and detailed information on the vessels that are notified for participation in exploratory fisheries. A vessel on the IUU Vessel List established by the Commission will not be permitted to participate in exploratory fisheries.

Data Reporting

The Commission revised its conservation measure requiring that 5-day catch and effort reports reach the CCAMLR Secretariat not later than two working days after the end of the reporting period for exploratory fisheries to apply to all other fisheries reporting under the 5-day catch and effort system. The conservation measure also permits Contracting Parties to authorize its vessels to report directly to the Secretariat. The Commission noted in a report of its meeting its agreement that monthly catches in krill fisheries should continue to be reported using the format and deadline specified in the monthly catch and effort reporting system.

Catch Documentation Scheme (CDS)

The Commission adopted a resolution noting the successful completion of the electronic toothfish document trial and urging CCAMLR Contracting and Non-Contracting Parties to adopt the electronic format as a matter of priority. The United States indicated its intention, through future rulemaking, to require that all imports of toothfish into the United States be documented using the electronic format.

Incidental Mortality Associated with Fishing

The Commission endorsed the Scientific Committee's recommendations for a protocol for testing integrated weighted longlines in new and exploratory fisheries and revised the seabird mitigation conservation measures to require use of the protocol. The protocol was required in Subareas 88.1 and 88.2 during the 2003/2004 season as a part of an experimental trial. Under the revised conservation measure, fishers employing the protocol to test the sink rate of their longlines are now allowed to set lines in Subareas 48.6, 88.1 and 88.2 Divisions 58.4.1, 58.4.2, 58.4.3a, 58.4.3b and 58.5.2 during daylight hours. Lines sinking at the rate specified in the protocol lessen the time during which bait on the lines is visible and attractive to seabirds. Fishers not employing the protocol are restricted to night setting to minimize seabird interaction. NMFS may propose to amend its regulations to allow the use of the protocol for using integrated weighted longlines and to restrict fishers choosing not to use the protocol to night settings in future rulemaking.

The Commission confirmed that all seabird bycatch limits set in conservation measures include both the count of dead seabirds and those injured but released alive.

The Commission agreed with the recommendation of its Working Group on the Incidental Mortality Associated with Fishing that “offal” be defined to include discarded bait and discarded fish bycatch.

The Commission adopted a resolution inviting the Inter-American Tropical Tuna Commission, the International Commission for the Conservation of Atlantic Tunas, The South East Atlantic Fisheries Organisation, the Indian Ocean Tuna Commission, the Commission for the Conservation of Southern Bluefin Tunas, the Agreement on the Organization of the Permanent Commission on the Exploitation and Conservation of the Marine Resources of the South Pacific, the Southwest Indian Ocean Fisheries Commission, the Commission for Highly Migratory Species in the Central and Western Pacific, and the Western Indian Ocean Tuna to implement or develop mechanisms to require the collection, reporting and dissemination of data on incidental mortality of seabirds. CCAMLR Members who are also members of these Regional Fishery Management Organizations (RFMO)are urged to raise issues of seabird mortality within those organizations. The resolution also urges Flag States conducting longline and other fishing outside the CCAMLR Convention Area which incidentally take seabirds that breed inside the Convention Area in areas where such mechanisms requiring the collection, reporting and dissemination of data on incidental mortality of seabirds are unavailable or where systematic reporting has not commenced to provide the CCAMLR Secretariat with summary data. Finally, the resolution encourages Flag States involved with new and developing RFMOs to request that incidental mortality of seabirds and other taxa is adequately addressed and mitigated by the RFMO.

The Scientific Committee recommended several seal bycatch mitigation measures to the Commission. The Commission endorsed these measures in its report but did not adopt them as a conservation measure. The mitigation measures were that: (1) information on all seal excluder devices be combined and circulated to CCAMLR member countries and other interested parties; (2) every vessel fishing for krill employ a device for excluding seals or facilitating their escape from the trawl net; (3) observers on krill vessels be required to collect reliable data on seal entrapment and on the effectiveness of mitigation devices; (4) all observers complete data forms accurately, consistently and comprehensively; and (5) the United Kingdom be requested to submit their observer data to the CCAMLR Secretariat. In a future rulemaking, NMFS will propose a requirement that all krill trawl vessels fishing in the Convention Area use a seal excluder device.

Protected Areas

The Commission revised the conservation measure requirements for information to be detailed on maps appended to management plans for CCAMLR Ecosystem Monitoring Program (CEMP) sites. The Commission amended the background information in the annexes to the conservation measures for the protection the Cape Shirreff and Seal Islands CEMP sites. The amendments were made to reflect the extent and development of human activities in the early 1880s.

Prohibitions on Directed Fishing

The Commission revised the conservation measure prohibiting directed fishing for Dissostichus species to apply it from December 1, 2004, to November 30, 2005, in Statistical Subarea 48.5 and continued the indefinite prohibitions on directed fishing for Dissostichus species and certain other finfish species in conservation measures adopted at earlier meetings.

The Commission, through a new conservation measure, limited directed fishing in the 2004/2005 season in Division 58.5.2 to Dissostichus eleginoides and Champsocephalus gunnari and set bycatch limits for other species.

Bycatch

The Commission, through a new conservation measure, revised the limitations on bycatch in new and exploratory fisheries in Statistical Division 58.5.2 for the 2004/2005 season.

The Commission, through a new conservation measure, also revised the bycatch limits in all new and exploratory fisheries for the 2004/2005 season in all areas containing SSRUs (Statistical Subareas 48.6, 88.1 and 88.2, and Statistical Subdivisions 58.4.2, 58.4.3a, 58.4.3b) for all Macrourus, skates and rays, and other species.

Dissostichus Species

The Commission extended the general measures in its conservation measure for exploratory fisheries for Dissostichus species in the Convention Area to the 2004/2005 season. The Commission also adopted area specific conservation measures for Dissostichus species for the 2004/2005 season.

The Commission set a catch limit of 3,050 tons for the longline fishery for D. eleginoides in Subarea 48.3 in the 2004/2005 season, set bycatch limits on other species and indicated that any catch of crab in any pot fishery will count against the catch limit for crab in Subarea 48.

The Commission set a combined catch limit of 2,787 tons of D. eleginoides in Division 58.5.2 west of 79°20′ E from December 1, 2004, to November 30, 2005, for trawl fishing and from May 1, 2005, to August 31, 2005, for longline fishing.

The Commission designated several Dissostichus fisheries as exploratory fisheries for the 2004/2005 fishing season. These fisheries are total allowable catch fisheries and are open only to the flagged vessels of countries that notified CCAMLR of an interest by named vessels to participate in the fisheries.

The exploratory fisheries for Dissostichus species authorized by the Commission for the 2004/2005 fishing season include the following: (1) longline fishing in Statistical Division 58.4.1 by Chile, Republic of Korea, New Zealand, Spain and Ukraine; (2) longline fishing in Statistical Subarea 48.6 by Japan, Republic of Korea and New Zealand; (3) longline fishing in Statistical Division 58.4.2 by Chile, Republic of Korea, New Zealand, Spain and Ukraine; (4) longline fishing in Statistical Division 58.4.3a (the Elan Bank) outside areas under national jurisdiction by Australia, Republic of Korea and Spain; (5) longline fishing in Statistical Division 58.4.3b (the BANZARE Bank) outside areas of national jurisdiction by Australia, Chile, Japan, Republic of Korea and Spain; (6) longline fishing in Statistical Subarea 88.1 by Argentina, Australia, New Zealand, Norway, Russia, South Africa, Spain, Ukraine, United Kingdom, and Uruguay; and (7) longline fishing in Statistical Subarea 88.2 by Argentina, New Zealand, Norway and Russia.

Champsocephalus gunnari

The Commission adopted area specific conservation measures for C. gunnari for the 2004/2005 season.

The Commission set the overall catch limit for the C. gunnari trawl fishery in Subarea 48.3 for the 2004/2005 season at 3,574 tons and continued previously adopted restrictions on the fishery.

The Commission also set the catch limit for C. gunnari trawl fishery within defined areas of Division 58.5.2 for the 2004/2005 season at 1,864 tons and continued previously adopted restrictions on and reporting requirements for the fishery.

Crab

The Commission adopted area specific conservation measures for crab species for the 2004/2005 season. The Commission set the total allowable catch level for the pot fishery for crab for the 2004/2005 fishing season at 1,600 tons and continued to limit participation to one vessel per member country conducted as an experimental harvest regime.

Squid

The Commission also adopted area specific conservation measures for squid for the 2004/2005 season. The Commission set the total allowable catch limit for the exploratory jig fishery for Martialia hyadesi for the 2004/2005 fishing season at 2,500 tons.

Krill

The Commission adopted area specific conservation measures for krill for the 2004/2005 season. The Commission carried forward the precautionary catch limits for krill in Statistical Area 48 at 4.0 million tons overall and, as divided by subareas, at 1.008 million tons in Subarea 48.1, 1.104 million tons in Subarea 48.2, 1.056 million tons in Subarea 48.3, and 0.832 million tons in Subarea 48.4.

Authority: 16 U.S.C. 2431 et seq.

Dated: April 7, 2005.
William T. Hogarth,
Assistant Administrator for Fisheries, National Marine Fisheries Service.

[FR Doc. 05-7313 Filed 4-11-05; 8:45 am]

BILLING CODE 3510-22-S